DEPARTMENT OF TRANSPORTATION

Federal Aviation Administration

[Docket No. FAA-2022-1605]

Agency Information Collection Activities: Requests for Comments; Clearance of a New Approval of Information Collection: International Role of the Federal Aviation Administration

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on February 13, 2023. The collection involves questioning, via email, telephone or other means, foreign entities to determine what collaborative opportunities exist. The information to be collected is necessary to accomplish the statutory requirements of Title 49 United States Code to “provide technical assistance on any other aspect of aviation safety that the Administrator determines is likely to enhance international aviation safety”. The information collection will be used to inform the FAA's International Strategy, which is the agency's mechanism for fulfilling its international role.

DATES: Written comments should be submitted by September 17, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Nicholas DeLotell by email at: nicholas.delotell@faa.gov; phone: 202-710-1163.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-XXXX.

Title: Agency Information Collection Activities: Requests for Comments; Clearance of a New Approval of Information Collection: International Role of the Federal Aviation Administration.

Form Numbers: None.

Type of Review: Clearance of a new information collection.

Background: The Federal Register Notice with a 60-day comment period soliciting comments on the following collection of information was published on February 13, 2023 (Volume 88 FR 9312). 49 U.S.C. 40104 requires “the Administrator to promote and achieve global improvements in the safety, efficiency, and environmental effect of air travel by engaging with foreign counterparts, in the International Civil Aviation Organization (ICAO) and its subsidiary organizations, and other international organizations and fora, and with the private sector.” The statute further requires the Administrator to engage bilaterally and multilaterally on an ongoing basis to bolster international collaboration and to harmonize international aviation safety requirements, and to expand the technical assistance provided by the FAA in support of enhancing international aviation safety.

This information collection specifically facilitates work and training arrangements with foreign counterparts, ICAO and its subsidiary organizations, other international organizations and fora, and with private entities around the world; it identifies opportunities and unexpected changes; and it ultimately contributes to the fulfillment of the FAA's mission to provide the safest, most efficient aerospace system in the world.

Foreign affairs specialists assigned to the FAA Office of International Affairs will collect information from respondents (foreign counterparts, ICAO and its subsidiary organizations, other international organizations and fora, or from private foreign entities) verbally, in-person or telephonically, or in writing via letter, email, or other electronic means.

Respondents: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Frequency: The FAA estimates this collection of information would result in approximately twenty instances of international technical assistance per year.

Estimated Average Burden per Response: Given unique requirements the FAA and respondents may have, and the ongoing dialog necessary to conduct work with foreign entities, the FAA estimates a cumulative burden of approximately 4 hours per response.

Estimated Total Annual Burden: We estimate 20 responses per year at an average of 4 hours per response, for a total annual hourly burden of 80 hours. We found that these activities are typically performed by the respondents' equivalent to a FAA foreign affairs specialist, for which the FAA assumes a mid-grade GS-13 salary, Rest of USA locality. Annual salary is $111,628, divided by 2,080 hours for an hourly rate of $53.66. The FAA uses a fringe benefits and overhead cost, for FAA employees, of 100%. This results in a fully loaded wage of $107.33 per hour. The total hourly burden of 80 multiplied by the fully loaded hourly rate of $107.33 results in an annual economic burden of $8,586.77.

Issued in Washington, DC, on August 14, 2023.
India Pinkney,
Executive Director, Office of International Affairs.

[FR Doc. 2023-17771 Filed 8-17-23; 8:45 am]

BILLING CODE 4910-13-P